DEPARTMENT OF HEALTH AND HUMAN SERVICES

National Institutes of Health

Center for Scientific Review; Amended Notice of Meeting

Notice is hereby given of a change in the meeting of the Basic Mechanisms of Cancer Therapeutics Study Section, October 7, 2013, 8:00 a.m. to October 8, 2013, 5:00 p.m., Torrance Marriott South Bay, Torrance, CA 90503 which was published in the Federal Register on September 16, 2013, 78 FR 179, Pgs. 56904-56905.

The meeting will be held at Ritz Carlton, 1150 22nd St. NW., Washington, DC 20037. The meeting will start on December 3, 2013 at 8:00 a.m. and end on December 4, 2013 at 12:00 p.m. The meeting is closed to the public.

Dated: October 25, 2013.
Anna Snouffer,
Deputy Director, Office of Federal Advisory Committee Policy.

[FR Doc. 2013-25900 Filed 10-30-13; 8:45 am]

BILLING CODE 4140-01-P